DEPARTMENT OF HOMELAND SECURITY

Federal Emergency Management Agency

44 CFR Part 65

[Docket No. FEMA-B-7712]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Division Director of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Pima | Town of Marana (06-09-BD84P) | November 9, 2006; November 16, 2006; Daily Territorial | The Honorable Ed Honea, Mayor, Town of Marana, Marana Municipal Complex, 11555 West Civic Center Drive, Marana, AZ 85653 | October 26, 2006 | 040118
Arkansas: Benton | City of Rogers (05-06-A137P) | January 3, 2007; January 10, 2007; Rogers Hometown News | The Honorable Steve Womack, Mayor, City of Rogers, 300 West Poplar Street, Rogers, AR 72756 | April 4, 2007 | 050013
Arkansas: Benton | City of Rogers (06-06-BA42P) | December 20, 2006; December 27, 2006; Rogers Hometown News | The Honorable Steve Womack, Mayor, City of Rogers, 301 West Chestnut, Rogers, AR 72756 | March 28, 2007 | 050013
Arkansas: Benton | City of Rogers (07-06-0169P) | January 24, 2007; January 31, 2007; Arkansas Democrat Gazette | The Honorable Steve Womack, Mayor, City of Rogers, 301 West Chestnut Street, Rogers, AR 72756 | April 25, 2007 | 050013
Arkansas: Crawford | City of Van Buren (06-06-B796P) | November 29, 2006; December 6, 2006; Press Argus-Courier | The Honorable John Riggs, Mayor, City of Van Buren, 1003 Broadway, Van Buren, AR 72956 | March 7, 2007 | 050053
Arkansas: Crawford | Unincorporated areas of Crawford County (06-06-B796P) | November 29, 2006; December 6, 2006; Press Argus-Courier | The Honorable Jerry H. Williams, Crawford County Judge, Crawford County Courthouse, 300 Main Street, Van Buren, AR 72956 | March 7, 2007 | 050428
Arkansas: Pulaski | City of Sherwood (06-06-B539P) | November 16, 2006; November 23, 2006; The Sherwood Voice | The Honorable Bill Harmon, Mayor, City of Sherwood, 2199 East Kiehl Avenue, Sherwood, AR 72120 | February 22, 2007 | 050235
Arkansas: Saline | City of Benton (06-06-BC89P) | November 30, 2006; December 7, 2006; The Benton Courier | The Honorable Rick Holland, Mayor, City of Benton, Benton Municipal Complex, 114 South East Street, Benton, AR 72015 | November 27, 2006 | 050192
Arkansas: Saline | Unincorporated areas of Saline County (06-06-BC89P) | November 30, 2006; December 7, 2006; The Benton Courier | The Honorable Lanny Fite, County Judge, Saline County, 200 North Main Street, Room 117, Benton, AR 72015 | November 27, 2006 | 050191
California: Contra Costa | Unincorporated areas of Contra Costa County (06-09-B006P) | January 18, 2007; January 25, 2007; Contra Costa Times | The Honorable Brian Swisher, Mayor, City of Brentwood, 708 Third Street, Brentwood, CA 94513 | April 26, 2007 | 060439
California: Riverside | City of Murrieta (06-09-BD71P) | January 18, 2007; January 25, 2007; The Californian | The Honorable Kelly Seyarto, Mayor, City of Murrieta, 26442 Beckman Court, Murrieta, CA 92562 | April 26, 2007 | 060751
California: San Bernardino | City of Barstow (06-09-B313P) | December 18, 2006; January 4, 2007; San Bernardino County Sun | The Honorable Lawrence E. Dale, Mayor, City of Barstow, 220 East Mountain View Street, Suite A, Barstow, CA 92311 | November 30, 2006 | 060271
California: San Bernardino | Unincorporated areas of San Bernardino County (06-09-B313P) | December 18, 2006; January 4, 2007; San Bernardino County Sun | The Honorable Bill Postmus, Chairman, San Bernardino County Board of Supervisors, 385 North Arrowhead Avenue, 3rd Floor, San Bernardino, CA 92415 | November 30, 2006 | 060270
California: San Diego | Unincorporated areas of San Diego County (06-09-BF75P) | December 21, 2006; December 28, 2006; San Diego Transcript | The Honorable Bill Horn, Chairman, San Diego County Board of Supervisors, 1600 Pacific Highway, Room 335, San Diego, CA 92101 | November 29, 2006 | 060284
California: Santa Barbara | Unincorporated areas of Santa Barbara County (07-09-0251X) | January 18, 2007; January 25, 2007; Santa Barbara News Press | The Honorable Joni L. Gray, Chairperson, Santa Barbara County, 511 East Lakeside Parkway, Suite 126, Santa Maria, CA 93455 | February 2, 2007 | 060331
California: Shasta | Unincorporated areas of Shasta County (06-09-BB09P) | November 9, 2006; November 16, 2006; Redding Record Searchlight | The Honorable Patricia A “Trish” Clarke, Chairman, Shasta County Board of Supervisors, 1450 Court Street, Suite 308 B, Redding, CA 96001 | October 31, 2006 | 060358
Colorado: Adams | City of Thornton (06-08-B537P) | February 1, 2007; February 8, 2007; Golden Transcript | The Honorable Noel Busck, Mayor, City of Thornton, 9500 Civic Center Drive, Thornton, CO 80229 | May 10, 2007 | 080007
Colorado: Adams | Unincorporated areas of Adams County (06-08-B537P) | February 1, 2007; February 8, 2007; Golden Transcript | The Honorable Alice J. Nichol, Chairman, Adams County Board of Commissioners, 450 South Fourth Avenue, Brighton, CO 80601 | May 10, 2007 | 080001
Colorado: Adams and Jefferson | City of Westminster (06-08-B537P) | February 1, 2007; February 8, 2007; Golden Transcript | The Honorable Nancy McNally, Mayor, City of Westminster, 4800 West 92nd Avenue, Westminster, CO 80031 | May 10, 2007 | 080008
Colorado: Arapahoe | City of Centennial (06-08-B400P) | December 28, 2006; January 4, 2007; Littleton Independent | The Honorable Randy Pye, Mayor, City of Centennial, City of Centennial Office, 12503 East Euclid Drive, Suite 200, Centennial, CO 80111 | April 5, 2007 | 080315
Colorado: Boulder | City of Boulder (06-08-B289P) | December 20, 2006; December 27, 2006; The Boulder City Camera | The Honorable Mark Ruzzin, Mayor, City of Boulder, P.O. Box 791, Boulder, CO 80306 | March 28, 2007 | 080024
Colorado: Boulder | Unincorporated areas of Boulder County (06-08-B289P) | December 20, 2006; December 27, 2006; The Boulder Daily Camera | The Honorable Ben Pearlman, Chairman, Boulder County Board of Commissioners, Boulder County Courthouse, P.O. Box 471, Boulder, CO 80306 | March 28, 2007 | 080023
Colorado: Broomfield | City of Broomfield and Unincorporated areas of Broomfield County (06-08-B537P) | February 1, 2007; February 8, 2007; Golden Transcript | The Honorable Karen Stuart, Mayor, City and County of Broomfield, One DesCombes Drive, Broomfield, CO 80020 | May 10, 2007 | 085073
Colorado: El Paso | City of Colorado Springs (05-08-0608P) | November 22, 2006; November 29, 2006; El Paso County News | The Honorable Lionel Rivera, Mayor, City of Colorado Springs, P.O. Box 1575, Colorado Springs, CO 80901 | October 25, 2006 | 080060
Colorado: El Paso | Unincorporated areas of El Paso County (05-08-A578P) | November 22, 2006; November 29, 2006; El Paso County News | The Honorable Jim Bensberg, Chairman, El Paso County Board of Commissioners, 27 East Vermijo Avenue, Colorado Springs, CO 80903-2208 | October 30, 2006 | 080059
Colorado: El Paso | Unincorporated areas of El Paso County (06-08-B137P) | November 29, 2006; December 6, 2006; El Paso County News | The Honorable Sallie Clark, Chair, El Paso County Board of Commissioners, 27 East Vermijo Avenue, Colorado Springs, CO 80903 | December 13, 2006 | 080059
Colorado: Summit | Town of Breckenridge (06-08-B667P) | January 12, 2007; January 19, 2007; Summit County Journal | The Honorable Ernie Blake, Mayor, Town of Breckenridge, P.O. Box 168, Breckenridge, CO 80424 | December 7, 2006 | 080172
Connecticut: Hartford | City of Hartford (07-01-0111P) | December 21, 2006; December 28, 2006; Hartford Courant | The Honorable Eddie A. Perez, Mayor, City of Hartford, 550 Main Street, Hartford, CT 06103 | December 6, 2006 | 095080
Delaware: New Castle | Unincorporated areas of New Castle County (06-03-B233P) | December 21, 2006; December 28, 2006; The News Journal | The Honorable Chris Coons, New Castle County Executive, 87 Read's Way, New Castle, DE 19720 | March 29, 2007 | 105085
Delaware: New Castle | Unincorporated areas of New Castle County (06-03-B714P) | December 1, 2006; December 8, 2006; Newark Post | The Honorable Paul G. Clark, President, New Castle County Council, City/County Building, 800 North French Street, Eighth Floor, Wilmington, DE 19801 | March 9, 2007 | 105085
Florida: Clay | Unincorporated areas of Clay County (06-04-BQ02P) | November 9, 2006; November 16, 2006; Clay Today | The Honorable William Wilkes, Circuit Court Judge, Clay County Courthouse, 825 North Orange Avenue, Green Cove Springs, FL 32043 | October 16, 2006 | 120064
Florida: Duval | City of Jacksonville (05-04-A005P) | December 11, 2006; December 18, 2006; Jacksonville Daily Record | The Honorable Mr. John Peyton, Mayor, City of Jacksonville, City Hall at St. James, Fourth Floor, 117 West Duval Street, Jacksonville, FL 32202 | March 19, 2007 | 120077
Florida: Flagler | Unincorporated areas of Flagler County (06-04-BW09P) | December 21, 2006; December 28, 2006; The News-Journal | The Honorable James Darby, Chairman, Board of Commissioners, Flagler County, P.O. Box 1132, Flagler Beach, FL 32136 | November 30, 2006 | 120085
Florida: Leon | Unincorporated areas of Leon County (06-04-B039P) | December 21, 2006; December 28, 2006; Tallahassee Democrat | The Honorable Parwez Alam, Administrator, Leon County, 301 South Monroe Street, Fifth floor, Tallahassee, FL 32301 | March 29, 2007 | 120143
Florida: Marion | Unincorporated areas of Marion County (06-04-BH17P) | November 30, 2006; December 7, 2006; Star-Banner | The Honorable Jim Payton, Chairman, Marion County Board of Commissioners, 601 Southeast 25th Avenue, Ocala, FL 34471 | October 30, 2006 | 120160
Florida: Miami-Dade | City of Miami (06-04-C312P) | November 30, 2006; December 7, 2006; Miami New Times | The Honorable Manuel A. Diaz, Mayor, City of Miami, 3500 Pan American Drive, Miami, FL 33133 | October 30, 2006 | 120650
Florida: Pinellas | City of St. Petersburg (06-04-BS96P) | December 21, 2006; December 28, 2006; St. Petersburg Times | The Honorable Rick Baker, 175 Fifth Street North, St. Petersburg, FL 33701 | March 29, 2007 | 125148
Florida: Polk | Unincorporated areas of Polk County (06-04-BO60P) | November 16, 2006; November 23, 2006; The Polk County Democrat | Mr. Michael Herr, County Manager, Polk County, P.O. Box 9005, Drawer BC01, Bartow, FL 33831 | February 22, 2007 | 120261
Florida: St. Johns | Unincorporated areas of St. Johns County (06-04-BT86P) | November 9, 2006; November 16, 2006; The St. Augustine Record | The Honorable James E. Bryant, Chairman, Board of County Commissioners, St. Johns County, 4020 Lewis Speedway, St. Augustine, FL 32084 | February 15, 2007 | 125147
Georgia: Columbia | Unincorporated areas of Columbia County (06-04-C011P) | December 6, 2006; December 13, 2006; Columbia County News-Times | The Honorable Ron C. Cross, Chairman, Columbia County Commissioners, 908 Nerium Trail, Evans, GA 30809 | February 28, 2007 | 130059
Georgia: Gwinnett | Unincorporated areas of Gwinnett County (05-04-2732P) | December 21, 2006; December 28, 2006; Gwinnett Daily Post | The Honorable Charles E. Bannister, Chairman, Gwinnett County Board of Commissioners, 75 Langley Drive, Lawrenceville, GA 30045 | March 29, 2007 | 130322
Georgia: Gwinnett | Unincorporated areas of Gwinnett County (06-04-C663P) | December 21, 2006; December 28, 2006; Gwinnett Daily Post | The Honorable Charles Bannister, Chairman, Board of Commissioners, Gwinnett County, 75 Langley Drive, Lawrenceville, GA 30045 | November 30, 2006 | 130322
Georgia: Gwinnett | Unincorporated areas of Gwinnett County (06-04-BY93P) | February 1, 2007; February 8, 2007; Gwinnett Daily Post | The Honorable Charles E. Bannister, Chairman, Gwinnett County Board of Commissioners, 75 Langley Drive, Lawrenceville, GA 30045 | May 10, 2007 | 130322
Hawaii: Hawaii | Unincorporated areas of Hawaii County (06-09-B047P) | November 2, 2006; November 9, 2006; Hawaii Tribune Herald | The Honorable Harry Kim, Mayor, Hawaii County, 25 Aupuni Street, Room 215, Hilo, HI 96720 | October 16, 2006 | 155166
Idaho: Boise | Unincorporated areas of Boise County (06-10-B184P) | January 4, 2007; January 11, 2007; The Idaho Statesman | The Honorable Roger B. Jackson, Chairman, Boise County Board of Commissioners, 420 Main Street, Idaho City, ID 83631 | April 12, 2007 | 160205
Illinois: DuPage | City of Warrenville (06-05-B753P) | December 21, 2006; December 28, 2006; Daily Herald | The Honorable David L. Brummel, Mayor, City of Warrenville, City Hall, 28W701 Stafford Place, Warrenville, IL 60555 | November 22, 2006 | 170218
Illinois: Ogle | City of Rochelle (06-05-B086P) | November 9, 2006; November 16, 2006; The Rochelle News-Leader | The Honorable Chet Olson, Mayor, City of Rochelle, 420 North Sixth Street, Rochelle, IL 61068 | February 15, 2007 | 170352
Illinois: St. Clair | City of Belleville (06-05-B005P) | November 30, 2006; December 7, 2006; News-Democrat | The Honorable Mark Eckert, Mayor, City of Belleville, 101 South Illinois Street, Belleville, IL 62220 | March 8, 2007 | 170618
Illinois: St. Clair | Unincorporated areas of St. Clair County (06-05-B005P) | November 30, 2006; December 7, 2006; News-Democrat | Mr. Mark Kern, Chairman, St. Clair County Board, St. Clair County Building, 10 Public Square, Belleville, IL 62220 | March 8, 2007 | 170616
Illinois: Will | Village of Frankfort (06-05-BT88P) | November 30, 2006; December 7, 2006; Daily Southtown | The Honorable Jim Holland, Mayor, Village of Frankfort, 432 West Nebraska Street, Frankfort, IL 60423 | October 31, 2006 | 170701
Indiana: Hancock | City of Greenfield (06-05-B085P) | December 21, 2006; December 28, 2006; Greenfield Daily Reporter | The Honorable Rodney Fleming, Mayor, City of Greenfield, Keith J. McClanon Government Center, 10 South State Street, Greenfield, IN 46140 | January 2, 2007 | 180084
Indiana: Hancock | Unincorporated areas of Hancock County (06-05-B085P) | December 21, 2006; December 28, 2006; Greenfield Daily Reporter | Mr. Brian Kleiman, President, Board of Commissioners, Hancock County, 111 South American Legion Place, Greenfield, IN 46140 | March 29, 2007 | 180419
Kansas: Johnson | City of Olathe (06-07-B170P) | December 21, 2006; December 28, 2006; The Johnson County Sun | The Honorable Michael Copeland, Mayor, City of Olathe, P.O. Box 768, Olathe, KS 66051-0768 | November 22, 2006 | 200173
Kansas: Johnson | City of Overland Park (06-07-B170P) | December 21, 2006; December 28, 2006; The Johnson County Sun | The Honorable Carl Gerlach, Mayor, City of Overland Park, 8500 Santa Fe Drive, Olathe, KS 66061 | November 22, 2006 | 200174
Kansas: Sedgwick | City of Wichita (06-07-BB40P) | December 21, 2006; December 28, 2006; The Wichita Eagle | The Honorable Carlos Mayans, Mayor, City of Wichita, City Hall, First Floor, 455 North Main Street, Wichita, KS 67202 | February 5, 2007 | 200238
Kansas: Shawnee | City of Topeka (06-07-B029P) | November 16, 2006; November 23, 2006; Topeka Capital Journal | The Honorable William W. Bunten, Mayor, City of Topeka, City Hall, 215 Southeast 7th Street, Topeka, KS 66603-3914 | November 30, 2006 | 205187
Maine: Cumberland | Town of Windham (06-01-B562P) | November 9, 2006; November 16, 2006; Portland Press Herald | The Honorable John MacKinnon, Chairman, Windham Town Council, 8 School Road, Windham, ME 04062 | October 30, 2006 | 230189
Maine: Oxford | Town of Bethel (06-01-B021P) | November 30, 2006; December 7, 2006; The Bethel Citizen | The Honorable Stanley R. Howe, Chairman, Town of Bethel, P.O. Box 1660, Bethel, ME 04217 | October 30, 2006 | 230088
Maryland: Allegany | Unincorporated areas of Allegany County (06-03-B234P) | November 30, 2006; December 7, 2006; The Cumberland Times-News | The Honorable James J. Stakem, President, Allegany County Board of Commissioners, Allegany County Office Complex, 701 Kelly Road, Fourth Floor, Cumberland, MD 21502-2803 | March 8, 2007 | 240001
Maryland: Carroll | Unincorporated areas of Carroll County (05-03-A533P) | October 19, 2006; October 26, 2006; Carroll County Times | The Honorable Julia W. Gouge, President, Carroll County Board of Commissioners, Carroll County Office Building, 225 North Center Street, Westminster, MD 21157 | January 25, 2007 | 240015
Maryland: Howard | Unincorporated areas of Howard County (05-03-A496P) | December 14, 2006; December 21, 2006; Howard County Times | The Honorable James N. Robey, Howard County Executive, 3430 Courthouse Drive, Ellicott City, MD 21043 | November 16, 2006 | 240044
Massachusetts: Barnstable | Town of Bourne (06-01-B530P) | December 21, 2006; December 28, 2006; Cape Cod Times | The Honorable Linda Zuern, Chair, Board of Selectmen, Town of Bourne, 24 Perry Avenue, Buzzards Bay, MA 02532 | November 30, 2006 | 255210
Massachusetts: Essex | Town of Wenham (06-01-B791P) | November 9, 2006; November 16, 2006; The Salem News | The Honorable Peter Hersee, Chairman, Wenham Board of Selectmen, 123 Main Street, Wenham, MA 01984 | February 15, 2007 | 250107
Michigan: Macomb and Marquette | Township of Macomb (06-05-BT19P) | December 22, 2006; December 29, 2006; Macomb County Legal News | The Honorable John D. Brennan, Supervisor, Township of Macomb, 54111 Broughton Rd, Macomb, MI 48042 | March 30, 2007 | 260445
Minnesota: Olmsted | City of Rochester (06-05-BR73P) | November 30, 2006; December 7, 2006; Post-Bulletin | The Honorable Ardell Brede, Mayor, City of Rochester, 201 Fourth Street Southeast, Room 281, Rochester, MN 55904 | October 30, 2006 | 275246
Mississippi: Rankin | City of Flowood (06-04-C397P) | December 20, 2006; December 27, 2006; Rankin County News | The Honorable Gary Rhoads, Mayor, City of Flowood, P.O. Box 320069, Flowood, MS 39232-0069 | March 29, 2007 | 280289
Mississippi: Rankin | Unincorporated areas of Rankin County (06-04-C397P) | December 20, 2006; December 27, 2006; Rankin County News | The Honorable Norman McLeod, Rankin County Administrator, 221 East Government Street, Suite A, Brandon, MS 39042 | March 29, 2007 | 280142
Missouri: Pemiscot | City of Caruthersville (06-07-B730P) | December 21, 2006; December 28, 2006; Caruthersville-Hayti Democrat-Argus | The Honorable Diane Sayre, Mayor, City of Caruthersville, 200 West Third Street, Caruthersville, MO 63830 | March 29, 2007 | 290275
Missouri: Pemiscot | Unincorporated areas of Pemiscot County (06-07-B730P) | December 21, 2006; December 28, 2006; Caruthersville Hayti Democrat-Argus | The Honorable Charles Moss, Presiding Commissioner, Pemiscot County Commission, 610 Ward Avenue, Caruthersville, MO 63830 | March 29, 2007 | 290779
Missouri: St. Charles | City of O'Fallon (06-07-B699P) | September 20, 2006; September 27, 2006; St. Charles Journal | The Honorable Donna Morrow, Mayor, City of O'Fallon, City Hall, 100 North Main Street, O'Fallon, MO 63366 | December 27, 2006 | 290316
Missouri: St. Charles | Unincorporated areas of St. Charles County (06-07-B699P) | September 20, 2006; September 27, 2006; St. Charles Journal | The Honorable Joe Ortwerth, County Executive, St. Charles County Administration Building, 201 North Second Street, St. Charles, MO 63301 | December 27, 2006 | 290315
Nevada: Clark | Unincorporated areas of Clark County (06-09-B036P) | November 9, 2006; November 16, 2006; Las Vegas Review-Journal | The Honorable Rory Reid, Chair, Clark County Board of Commissioners, 500 South Grand Central Parkway, Las Vegas, NV 89106 | October 31, 2006 | 320003
Nevada: Clark | Unincorporated areas of Clark County (06-09-B275P) | November 9, 2006; November 16, 2006; Las Vegas Review-Journal | The Honorable Rory Reid, Chair, Clark County Board of Commissioners, 500 South Grand Central Parkway, Las Vegas, NV 89106 | February 15, 2007 | 320003
Nevada: Clark | Unincorporated areas of Clark County (06-09-BC35P) | November 9, 2006; November 16, 2006; Las Vegas Review-Journal | The Honorable Rory Reid, Clark County Board of Commissioners, 500 South Grand Central Parkway, Las Vegas, NV 89106 | October 24, 2006 | 320003
New Mexico: Bernalillo | City of Albuquerque (07-06-0332P) | February 1, 2007; February 8, 2007; The Albuquerque Journal | The Honorable Martin J. Chavez, Mayor, City of Albuquerque, P.O. Box 1293, Albuquerque, NM 87103 | May 10, 2007 | 350002
New Mexico: Sandoval | City of Rio Rancho (06-06-BI29P) | November 30, 2006; December 7, 2006; The Santa Fe New Mexican | The Honorable Ken Jackson, Mayor, City of Rio Rancho, 3900 Southern Boulevard, Rio Rancho, NM 87124 | December 1, 2006 | 350146
North Carolina: Durham | City of Durham (06-04-B004P) | November 9, 2006; November 16, 2006; The Herald-Sun | The Honorable William V. “Bill” Bell, Mayor, City of Durham, 101 City Hall Plaza, Durham, NC 27701 | October 27, 2006 | 370086
Ohio: Allen | City of Lima (05-05-0634P) | November 30, 2006; December 7, 2006; The Lima News | The Honorable David J. Berger, Mayor, City of Lima, 50 Town Square, Lima, OH 45801 | March 8, 2007 | 390006
Ohio: Allen | Unincorporated areas of Allen County (05-05-0634P) | November 30, 2006; December 7, 2006; The Lima News | The Honorable Greg Sneary, President, Allen County Board of Commissioners, 301 West North Street, Lima, OH 45801 | March 8, 2007 | 390758
Ohio: Lake | City of Mentor (06-05-BY78P) | January 12, 2007; January 19, 2007; The News Herald | The Honorable Ray Kirchner, Mayor, City of Mentor, 8500 Civic Center Boulevard, Mentor, OH 44060 | January 2, 2007 | 390317
Ohio: Lorain | City of Amherst (05-05-A229P) | November 30, 2006; December 7, 2006; Chronicle Telegraph | The Honorable David A. Taylor, Mayor, City of Amherst, 480 Park Avenue, Amherst, OH 44001 | March 8, 2007 | 390347
Ohio: Lucas | City of Toledo (06-05-B078P) | December 1, 2006; December 7, 2006; Toledo Legal News | The Honorable Carleton S. Finkbeiner, Mayor, City of Toledo, One Government Center, 640 Jackson, Suite 2200, Toledo, OH 43604 | October 30, 2006 | 395373
Ohio: Lucas | City of Toledo (07-05-0330X) | December 21, 2006; December 28, 2006; Toledo Legal News | The Honorable Carleton S. Finkbeiner, Mayor, City of Toledo, One Government Center, 640 Jackson, Suite 2200, Toledo, OH 43604 | November 29, 2006 | 395373
Ohio: Lucas | Unincorporated areas of Lucas County (06-05-BW42P) | December 1, 2006; December 7, 2006; Toledo Legal News | Ms.Tina Skeldon Wozniak, President, Lucas County Board of Commissioners, One Government Center, Suite 800, Toledo, OH 43604 | October 30, 2006 | 390359
Oklahoma: Carter | City of Ardmore (06-06-B689P) | December 21, 2006; December 28, 2006; Ardmoreite | The Honorable Bob Clark, Mayor, City of Ardmore, P.O. Box 249, Ardmore, OK 73401 | November 30, 2006 | 400031
Oklahoma: Oklahoma | City of Oklahoma City (06-06-B396P) | January 11, 2007; January 18, 2007; The Oklahoman | The Honorable Mick Cornett, Mayor, City of Oklahoma City, 200 North Walker Street, Third Floor, Oklahoma City, OK 73102 | April 19, 2007 | 405378
Oklahoma: Tulsa | City of Broken Arrow (06-06-BJ56P) | January 18, 2007; January 25, 2007; Tulsa World | The Honorable Richard Carter, Mayor, City of Broken Arrow, P.O. Box 610, Broken Arrow, OK 74012 | January 29, 2007 | 400236
Pennsylvania: Cumberland | Township of Lower Allen (06-03-B823P) | November 30, 2006; December 7, 2006; The Sentinel | The Honorable John T. Titzel, President, Board of Commissioners, Township of Lower Allen, 1993 Hummel Avenue, Camp Hill, PA 17011 | March 8, 2007 | 421016
Pennsylvania: Cumberland | Township of Silver Spring (06-03-B462P) | December 21, 2006; December 28, 2006; The Sentinel | The Honorable Christopher R. Latta, Chairman, Silver Spring Township Supervisors, 6475 Carlisle Pike, Mechanicsburg, PA 17055 | November 30, 2006 | 420370
Pennsylvania: Delaware | Township of Thornbury (07-03-0012P) | January 11, 2007; January 18, 2007; Delaware County Daily Times | The Honorable Lou Gagliardi, Chairman, Thornbury Township Board of Supervisors, 8 Township Drive, Cheyney, PA 19319 | December 18, 2006 | 425390
Pennsylvania: Lehigh | City of Allentown (06-03-B617P) | December 1, 2006; December 8, 2006; The Express-Times | The Honorable Ed Pawlowski, Mayor, City of Allentown, Office of the Mayor, 435 Hamilton Street, Allentown, PA 18101 | March 9, 2007 | 420585
Rhode Island: Bristol | Town of Bristol (05-01-0763P) | November 9, 2006; November 16, 2006; The Phoenix Times | The Honorable Diane C. Mederos, Mayor, Town of Bristol, Town Hall, 10 Court Street, Bristol, RI 02809 | October 17, 2006 | 445393
Rhode Island: Providence | Town of North Smithfield (06-01-B167P) | November 30, 2006; December 7, 2006; The Call | The Honorable David Lovett, Chairman, North Smithfield Town Council, 1 Main Street, North Smithfield, RI 02876 | October 10, 2006 | 440021
South Carolina: Charleston | City of Charleston (06-04-BQ23P) | November 30, 2006; December 7, 2006; The Post and Courier | The Honorable Joseph P. Riley, Jr., Mayor, City of Charleston, P.O. Box 652, Charleston, SC 29402 | October 27, 2006 | 455412
South Carolina: Charleston | City of Isle of Palms (07-04-0193P) | December 21, 2006; December 28, 2006; The Post and Courier | Ms. Linda Lovvorn Tucker, City Administrator, City of Isle of Palms, Post Office Box 508, Isle of Palms, SC 29451 | November 30, 2006 | 455416
South Carolina: Horry | City of Myrtle Beach (05-04-2815P) | December 21, 2006; December 28, 2006; Horry Independent | Mr. Thomas Leath, Manager, City of Myrtle Beach, P.O. Drawer 2468, Myrtle Beach, SC 29577 | November 17, 2006 | 450109
South Carolina: Horry | Unincorporated areas of Horry County (06-04-C114P) | November 22, 2006; November 30, 2006; Horry Independent | Mr. Danny Knight, County Administrator, Horry County, P.O. Box 1236, Conway, SC 29528 | March 1, 2007 | 450104
South Carolina: Richland | Town of Blythewood (06-04-C394P) | January 18, 2007; January 25, 2007; Country Chronicle | The Honorable Pete Amoth, Mayor, Town of Blythewood, P.O. Box 1004, Blythewood, SC 29016 | April 26, 2007 | 450258
South Carolina: Richland | Unincorporated areas of Richland County (06-04-BP19P) | December 22, 2006; December 29, 2006; The Columbia Star | The Honorable Anthony G. Mizzell, Chair, Richland County Council, 106 Wembley Street, Columbia, SC 29209 | March 30, 2007 | 450170
South Carolina: Richland | Unincorporated areas of Richland County (06-04-BX98P) | January 19, 2007; January 26, 2007; The Columbia Star | Mr. J. Milton Pope, Interim County Administrator, Richland County, P.O. Box 192, Columbia, SC 29202 | April 27, 2007 | 450170
South Carolina: Richland | Unincorporated areas of Richland County (06-04-BX99P) | January 19, 2007; January 26, 2007; The Columbia Star | The Honorable Anthony G. Mizzell, Chair, Richland County Council, 106 Wembley Street, Columbia, SC 29209 | April 27, 2007 | 450170
South Carolina: Richland | Unincorporated areas of Richland County (07-04-0179P) | December 22, 2006; December 29, 2006; The Columbia Star | The Honorable Anthony Mizzell, Chairman, Richland County Council, P.O. Box 192, Columbia, SC 29202 | March 30, 2007 | 450170
South Dakota: Pennington | City of Rapid City (06-08-B495P) | December 21, 2006; December 28, 2006; Rapid City Journal | The Honorable Jim Shaw, Mayor, City of Rapid City, 300 Sixth Street, Rapid City, SD 57701 | March 29, 2007 | 465420
South Dakota: Pennington | Unincorporated areas of Pennington County (06-08-B495P) | December 21, 2006; December 28, 2006; Rapid City Journal | The Honorable Kenneth Davis, Chairperson, Pennington County Board of Commissioners, 315 Saint Joseph Street, Rapid City, SD 57701 | March 29, 2007 | 460064
Tennessee: Nashville and Davidson | Metropolitan Government of Nashville and Davidson County (07-04-0583P) | December 21, 2006; December 28, 2006; Nashville Record | The Honorable Bill Purcell, Mayor, Metropolitan Government of Nashville and Davidson County, 107 Metropolitan Courthouse, Nashville, TN 37201 | November 30, 2006 | 470040
Tennessee: Williamson | Town of Nolensville (06-04-BX96P) | December 21, 2006; December 28, 2006; Tennessean A.M. Section | The Honorable Tommy Dugger, Mayor, Town of Nolensville, 2260 Rolling Hills, Nolensville, TN 37135 | November 22, 2006 | 470425
Texas: Bexar | City of Live Oak (04-06-A273P) | November 30, 2006; December 7, 2006; Daily Commercial Recorder | The Honorable Henry O. Edward, Jr., Mayor, City of Live Oak, 8001 Shin Oak Drive, Live Oak, TX 78233 | March 8, 2007 | 480043
Texas: Bexar | City of San Antonio (06-06-B191P) | November 30, 2006; December 7, 2006; Daily Commercial Recorder | The Honorable Phil Hardberger, Mayor, City of San Antonio, P.O. Box 839966, San Antonio, TX 78283 | March 8, 2007 | 480045
Texas: Bexar | City of San Antonio (06-06-BC37P) | November 30, 2006; December 7, 2006; Daily Commercial Recorder | The Honorable Phil Hardberger, Mayor, City of San Antonio, P.O. Box 839966, San Antonio, TX 78283 | March 8, 2007 | 480045
Texas: Bexar | City of San Antonio (06-06-BD54P) | November 22, 2006; November 30, 2006; Daily Commercial Recorder | The Honorable Phil Hardberger, Mayor, City of San Antonio, P.O. Box 839966, San Antonio, TX 78283 | March 1, 2007 | 480045
Texas: Bexar | City of San Antonio (06-06-BH85P) | January 11, 2007; January 18, 2007; Daily Commercial Recorder | The Honorable Phil Hardberger, Mayor, City of San Antonio, P.O. Box 839966, San Antonio, TX 78283 | January 29, 2007 | 480045
Texas: Bexar | City of Shavano Park (06-06-BD54P) | November 22, 2006; November 30, 2006; Daily Commercial Recorder | The Honorable Tommy Peyton, Mayor, City of Shavano Park, 900 Saddletree Court, San Antonio, TX 78231 | March 1, 2007 | 480047
Texas: Bexar | Unincorporated areas of Bexar County (04-06-A273P) | November 30, 2006; December 7, 2006; Daily Commercial Recorder | The Honorable Nelson W. Wolff, County Judge, Bexar County Courthouse, 100 Dolorosa, Suite 1.20, San Antonio, TX 78205 | March 8, 2007 | 480035
Texas: Bexar | Unincorporated areas of Bexar County (05-06-A499P) | January 11, 2007; January 18, 2007; Daily Commercial Recorder | The Honorable Nelson W. Wolff, Bexar County Judge, Bexar County Courthouse, 100 Dolorosa, Suite 1.20, San Antonio, TX 78205 | April 19, 2007 | 480035
Texas: Brazos | City of College Station (06-06-B753P) | December 21, 2006; December 28, 2006; The Eagle | The Honorable Ron Silvia, Mayor, City of College Station, 1101 Texas Avenue, College Station, TX 77840 | March 29, 2007 | 480083
Texas: Collin | City of Allen (06-06-B685P) | December 21, 2006; December 28, 2006; The Allen American | The Honorable Stephen Terrell, Mayor, City of Allen, 305 Century Parkway, Allen, TX 75013 | March 29, 2007 | 480131
Texas: Dallas | City of Dallas (06-06-BF15P) | January 11, 2007; January 18, 2007; Daily Commercial Record | The Honorable Laura Miller, Mayor, City of Dallas, 1500 Marilla Drive, Dallas, TX 75201 | April 19, 2007 | 480171
Texas: Dallas | City of Grand Prairie (06-06-B413P) | December 21, 2006; December 28, 2006; The Daily Commercial Record | The Honorable Charles England, Mayor, City of Grand Prairie, 317 College Street, Grand Prairie, TX 75050 | March 29, 2007 | 485472
Texas: Ellis | City of Waxahachie (06-06-BF64P) | November 9, 2006; November 16, 2006; Waxahachie Daily Light | The Honorable Jay Barksdale, Mayor, City of Waxahachie, P.O. Box 757, Waxahachie, TX 75165 | February 15, 2007 | 480211
Texas: Galveston | City of Hitchcock (06-06-BK83P) | February 1, 2007; February 8, 2007; The Galveston County Daily News | The Honorable Lee A. Sander, Mayor, City of Hitchcock, 7423 Highway 6, Hitchcock, TX 77563 | May 10, 2007 | 485479
Texas: Galveston | City of La Marque (06-06-BK38P) | February 1, 2007; February 8, 2007; The Galveston County Daily News | The Honorable Larry Crow, Mayor, City of La Marque, 1111 Bayou Road, La Marque, TX 77568 | May 10, 2007 | 485486
Texas: Harris | Unincorporated areas of Harris County (06-06-B328P) | November 30, 2006; December 7, 2006; Houston Chronicle | The Honorable Robert Eckels, Harris County Judge, 1001 Preston, Suite 911, Houston, TX 77002 | October 30, 2006 | 480287
Texas: Harris | Unincorporated areas of Harris County (06-06-B392P) | November 30, 2006; December 7, 2006; Houston Chronicle | The Honorable Robert Eckels, Harris County Judge, 1001 Preston, Suite 911, Houston, TX 77002 | March 7, 2007 | 480287
Texas: Montgomery | Unincorporated areas of Montgomery County (06-06-BE46P) | December 20, 2006; December 27, 2006; Conroe Courier | The Honorable Alan B. Sadler, Montgomery County Judge, 301 North Thompson, Suite 210, Conroe, TX 77301 | March 28, 2007 | 480483
Texas: Tarrant | City of Colleyville (06-06-BG05P) | December 21, 2006; December 28, 2006; Fort Worth Star-Telegram | The Honorable David Kelly, Mayor, City of Colleyville, 100 Main Street, Colleyville, TX 76034 | March 29, 2007 | 480590
Texas: Tarrant | City of Fort Worth (06-06-B537P) | December 21, 2006; December 28, 2006; Fort Worth Star-Telegram | The Honorable Michael J. Moncrief, Mayor, City of Fort Worth, 1000 Throckmorton Street, Fort Worth, TX 76102 | January 2, 2007 | 480596
Texas: Tarrant | City of Fort Worth (06-06-B717P) | November 9, 2006; November 16, 2006; Fort Worth Star-Telegram | The Honorable Michael J. Moncrief, Mayor, City of Fort Worth, 1000 Throckmorton Street, Fort Worth, TX 76102 | February 15, 2007 | 480596
Texas: Tarrant | City of Fort Worth (06-06-BH46P) | December 21, 2006; December 28, 2006; Fort Worth Star-Telegram | The Honorable Michael J. Moncrief, Mayor, City of Fort Worth, 1000 Throckmorton Street, Fort Worth, TX 76102 | November 27, 2006 | 480596
Texas: Tarrant | City of Fort Worth (06-06-BK70P) | November 9, 2006; November 16, 2006; Fort Worth Star-Telegram | The Honorable Michael J. Moncrief, Mayor, City of Fort Worth, 1000 Throckmorton Street, Fort Worth, TX 76102 | February 15, 2007 | 480596
Texas: Tarrant | City of Fort Worth (06-06-BK71P) | December 21, 2006; December 28, 2006; Fort Worth Star-Telegram | The Honorable Michael J. Moncrief, Mayor, City of Fort Worth, 1000 Throckmorton Street, Fort Worth, TX 76102 | March 29, 2007 | 480596
Utah: Grand | City of Moab (06-08-B290P) | November 30, 2006; December 7, 2006; The Times-Independent | The Honorable David Sakrison, Mayor, City of Moab, 217 East Center Street, Moab, UT 84532 | March 8, 2007 | 490072
Utah: Grand | Unincorporated areas of Grand County (06-08-B290P) | November 30, 2006; December 7, 2006; The Times-Independent | The Honorable Joette Langianese, Chair, Grand County Council, 125 East Center Street, Moab, UT 84532 | March 8, 2007 | 490232
Utah: Salt Lake | City of South Jordan (06-08-B511P) | December 21, 2006; December 28, 2006; The Salt Lake Tribune | The Honorable William Kent Money, Mayor, City of South Jordan, 1600 West Towne Center Drive, South Jordan, UT 84095 | November 27, 2006 | 490107
Utah: Washington | City of St. George (05-08-0365P) | November 22, 2006; November 29, 2006; St. George Spectrum | The Honorable Daniel D. McArthur, Mayor, City of St. George, 175 East 200 North, St. George, UT 84770 | February 28, 2007 | 490177
Utah: Washington | Unincorporated areas of Washington County (05-08-0365P) | November 22, 2006; November 29, 2006; St. George Spectrum | The Honorable James J. Eardley, Chairman, Washington County Board of Commissioners, 197 East Tabernacle Street, St. George, UT 84770 | February 28, 2007 | 490224
Virginia: Rockingham | Unincorporated areas of Rockingham County (07-03-0034P) | December 21, 2006; December 28, 2006; Daily News-Record | Mr. Joseph S. Paxton, County Administrator, Rockingham County Administration Center, 20 East Gay Street, Harrisonburg, VA 22802 | March 29, 2007 | 510133
Wisconsin: Washington | Village of Germantown (06-05-BH45P) | January 18, 2007; January 25, 2007; West Bend Daily News | The Honorable Charles J. Hargan, President, Village of Germantown Board of Trustees, P.O. Box 337, Germantown, WI 53022 | April 26, 2007 | 550472

(Catalog of Federal Domestic Assistance No. 83.100, “Flood Insurance.”)

Dated: March 16, 2007.
David I. Maurstad,
Director, Mitigation Division, Federal Emergency Management Agency, Department of Homeland Security.

[FR Doc. E7-5608 Filed 3-27-07; 8:45 am]

BILLING CODE 9110-12-P